FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 30, 2016.

A. Federal Reserve Bank of Minneapolis (Jacquelyn K. Brunmeier, Assistant Vice President) 90 Hennepin Avenue, Minneapolis, Minnesota 55480-0291:

1. David Ryan Feriancek, Saint Joseph, Minnesota; to become a trustee of the Stearns Financial Services, Inc., Employee Stock Ownership Plan and Trust, Saint Cloud, Minnesota, (ESOP), and thereby indirectly acquire control of voting shares Stearns Financial Services, Inc., Saint Cloud, Minnesota (Stearns). Stearns controls Stearns Bank National Association, Saint Cloud, Minnesota, Stearns Bank of Upsala National Association, Upsala, Minnesota, and Stearns Bank of Holdingford National Association, Holdingford, Minnesota.

Board of Governors of the Federal Reserve System, August 9, 2016.
Michele T. Fennell,
Assistant Secretary of the Board.

[FR Doc. 2016-19283 Filed 8-12-16; 8:45 am]

BILLING CODE 6210-01-P